DEPARTMENT OF TRANSPORTATION

Federal Transit Administration

49 CFR Part 659

[FTA 2002-11449]

RIN 2132-AA69

Rail Fixed Guideway Systems; State Safety Oversight

ACTION: Withdrawal of direct final rule.

SUMMARY: The Federal Transit Administration (FTA) is withdrawing the direct final rule that revised the definition of “accident” as used in 49 CFR part 659 due to the receipt of adverse comments. FTA noted in the direct final rule published in the Federal Register on April 3, 2002 (67 FR 15725) that the rule would be withdrawn and would not take effect if an adverse comment was received on or before June 3, 2002. The Missouri Department of Economic Development, Division of Motor Carrier and Railroad Safety submitted an adverse comment dated May 30, 2002; therefore, the direct final rule will not become effective on July 2, 2002. FTA is reviewing 49 CFR part 659 and plans to publish a notice of proposed rulemaking in November 2002.

DATES: This withdrawal is effective July 1, 2002.

FOR FURTHER INFORMATION CONTACT: For questions regarding this notice, contact Jerry Fisher or Roy Field, Office of Safety and Security, FTA, telephone 202-366-2233, fax 202-366-7951. For questions on viewing or submitting material to the docket, contact Dorothy Beard, Chief, Dockets, Department of Transportation, telephone 202-366-9329.

SUPPLEMENTARY INFORMATION: On April 3, 2002, FTA published a direct final rule (64 FR 15725) amending 49 CFR Part 659 by removing the term “accident” under this section and adding in its place the definition and term “major incident” to be effective July 2, 2002. This action was taken because FTA's review of the National Transit Database (NTD), as mandated by the Department of Transportation's FY 2000 Appropriations Act, resulted in revisions of the Safety and Security Module of the NTD “Reporting Manual for 2002”. FTA solicited input from NTD stakeholders, which include rail transit agencies reporting to State Oversight Agencies as required by the State Safety Oversight regulations.

FTA believes that two accident/incident reporting definitions would cause confusion, generate inconsistent data, and create an additional burden for rail transit reporters. FTA stated in the preamble of the direct final rule it had solicited input from NTD stakeholders, including rail transit agencies reporting to State Oversight Agencies. However, as noted by the Missouri Department of Economic Development, Division of Motor Carrier and Railroad Safety, FTA did not solicit input from it, a state agency directly responsible for safety oversight of transit agencies within the state.

FTA initially believed the rulemaking would not be controversial. Based on the adverse comment we agree that input from additional stakeholders is warranted. At this time, FTA will not replace the term “accident” with the term “major incident” in 49 CFR 659.5, 659.39, 659.41. FTA plans to publish a notice of proposed rulemaking in November 2002.

List of Subjects in 49 CFR Part 659

Railroads.

Dated: June 26, 2002.
Jennifer L. Dorn,
Administrator, Federal Transit Administration.

[FR Doc. 02-16627 Filed 6-28-02; 8:45 am]

BILLING CODE 4910-57-M